DEPARTMENT OF TRANSPORTATION

National Highway Traffic Safety Administration

[Docket Number NHTSA-2007-0055]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before February 26, 2008.

FOR FURTHER INFORMATION CONTACT: Mr. David Sparks, Office of Odometer Fraud Investigation, 1200 New Jersey Avenue, SE., Room W55-318, Washington, D.C. 20590-0001. Telephone: (202) 366-5953

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology (e.g. permitting electronic submission of responses).

In compliance with these requirements, NHTSA asks for public comments on the following proposed collection of information:

Title: 49 CFR Part 580 Odometer Disclosure Statement.

OMB Number: 2127—0047.

Affected Public: Households, Business, other for-profit and not-for-profit institutions, Federal Government, and State, Local, or Tribal Government.

Abstract: The Federal Odometer Law, 49 U.S.C. Chapter 327, and implementing regulations, 49 CFR Part 580 require each transferor of a motor vehicle to provide the transferee with a written disclosure of the vehicle's mileage. This disclosure is to be made on the vehicle's title, or in the case of a vehicle that has never been titled, on a separate form. If the title is lost or is held by a lien holder, and where permitted by state law, the disclosure can be made on a state-issued, secure power of attorney.

Estimated Annual Burden: 2,034,910.

Estimated Number of Respondents: 162,808,900.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Comments should refer to the docket and notice numbers above and be submitted by any of the following methods:

• Federal eRulemaking Portal: http://www.regulations.gov. Follow the online instructions for submitting comments.

• DOT Internet site: http://dms.dot.gov Follow the instructions for submitting comments.

• Mail: Docket Management Facility, U.S. Department of Transportation, 1200 New Jersey Avenue, SE., West Building Ground Floor, Room W12-140, Washington, DC 20590-0001

• Hand Delivery or Courier: U.S. DOT, West Building Ground Floor, Room W12-140, 1200 New Jersey Avenue, SE., Washington, DC 20590-0001 between 9 a.m. and 5 p.m. EST, Monday through Friday, except Federal holidays.

• Fax: 202-493-2251

Instructions: Comments must be written in the English language, and be no greater than 15 pages in length, although there is no limit to the length of necessary attachments to the comments. If comments are submitted in hard copy form, please ensure that two copies are provided.

To receive confirmation that your comments were received, enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketInfo.dot.gov.

To Read Comments submitted to the Docket: visit the Docket Management System at the address and times given above.

To read the comments on the Internet, take the following steps:

(1) Go to the Federal Docket Management System (FDMS) Web page “http://www.regulations.gov”

(2) At that site, click on “search for dockets.”

(3) Select (http://www.regulations.gov/fdmspublic/component/main)

(4) From the drop-down menu in the Agency field, select “National Highway Traffic Safety Administration”

(4) Enter number “2127-0047” (the Docket ID).

(5) Click on “submit.”

(6) The response should contain the docket summary information for this docket.

(7) Click on the comments you wish to see.

(8) You may download the comments. These files are imaged documents (i.e. Adobe Acrobat pdf files) and can be “word searched” using a suitable software application.

Please note that it is recommended to search the Docket periodically, as new material is added as it becomes available.

Issued on: December 20, 2007.
Daniel C. Smith,
Associate Administrator for Enforcement.

[FR Doc. E7-25210 Filed 12-27-07; 8:45 am]

BILLING CODE 4910-59-P